DEPARTMENT OF VETERANS AFFAIRS

Geriatrics and Gerontology Advisory Committee, Notice of Meeting

The Department of Veterans Affairs (VA) gives notice under the Federal Advisory Committee Act a meeting of the Geriatrics and Gerontology Advisory Committee will be held on April 1-2, 2020, at the Department of Veterans Affairs in Washington, DC. On April 1st, the session will be held at 810 Vermont Avenue NW, in room 630 and begin at 1:00 p.m. and end at 5:00 p.m. A VANTS line has been established: 1-800-767-1750, 17413#. On April 2nd, the session will be held at 810 Vermont Avenue NW, in room 730 and begin at 8:00 a.m. and end at 4:00 p.m. A VANTS line has been established: 1-800-767-1750, 34067#. This meeting is open to the public.

The purpose of the Committee is to provide advice to the Secretary of VA and the Under Secretary for Health on all matters pertaining to geriatrics and gerontology. The Committee assesses the capability of VA health care facilities and programs to meet the medical, psychological, and social needs of older Veterans, and evaluates VA programs designated as Geriatric Research, Education, and Clinical Centers.

The meeting will feature presentations and discussions on VA's geriatrics and extended care programs, aging research activities, updates on VA's employee staff working in the area of geriatrics (to include training, recruitment and retention approaches), Veterans Health Administration (VHA) strategic planning activities in geriatrics and extended care, recent VHA efforts regarding dementia and program advances in palliative care, and performance and oversight of VA Geriatric Research, Education, and Clinical Centers.

Although no time will be allocated at this meeting for receiving oral presentations from the public, interested parties should provide written comments for review by the Committee to Marianne Shaughnessy, CRNP, Ph.D., Designated Federal Officer, Geriatrics and Extended Care (10NC4), Department of Veterans Affairs, 810 Vermont Avenue NW, Washington, DC 20420, or via email at Marianne.Shaughnessy@va.gov. Individuals who wish to attend the meeting should contact Ms. Shaughnessy at (202) 461-7217.

Dated: February 13, 2020.
LaTonya L. Small,
Federal Advisory Committee Management Officer.

[FR Doc. 2020-03273 Filed 2-19-20; 8:45 am]

BILLING CODE P